DEPARTMENT OF HEALTH AND HUMAN SERVICES

Announcement of Establishment of the Secretary's Advisory Committee on National Health Promotion and Disease Prevention Objectives for 2020 and Solicitation of Nominations for Membership

AGENCY: Department of Health and Human Services, Office of the Secretary, Office of Public Health and Science.

ACTION: Notice.

Authority: 42 U.S.C. 217a, section 222 of the Public Health Service Act, as amended. The Committee is governed by the Federal Advisory Committee Act, Public Law 92-463, as amended (5 U.S.C. Appendix 2), which sets forth standards for the formation and use of advisory committees.

SUMMARY: The U.S. Department of Health and Human Services (HHS) announces the establishment of the Secretary's Advisory Committee on National Health Promotion and Disease Prevention Objectives for 2020 and invites nominations for membership for the Committee.

DATES: Nominations for membership on the Committee must be submitted by close of business on September 20, 2007.

ADDRESSES: Nominations may be submitted by electronic mail to HP2020@hhs.gov. Alternatively, nominations may be sent to the following address: Emmeline Ochiai, HHS, Office of Disease Prevention and Health Promotion, Office of Public Health and Science, Room LL-100, 1101 Wootton Parkway, Rockville, MD 20852, (240) 453-8259 (telephone), (240) 453-8281 (fax).

FOR FURTHER INFORMATION CONTACT: Emmeline Ochiai, Designated Federal Official, Secretary's Advisory Committee on National Health Promotion and Disease Prevention Objectives for 2020, HHS, Office of Disease Prevention and Health Promotion, Office of Public Health and Science, Room LL-100, 1101 Wootton Parkway, Rockville, MD 20852, 240/453-8259 (telephone), 240/453-8281 (fax). Additional information is available on the Internet at http://www.healthypeople.gov.

SUPPLEMENTARY INFORMATION: Each decade since 1979, the U.S. Department of Health and Human Services (HHS) has published a comprehensive set of national public health objectives. Known as Healthy People, this initiative has been grounded in the notion that setting objectives and monitoring progress can motivate action. As it prepares to produce objectives for the next decade, HHS seeks to ensure that they are scientifically valid, relevant, and sustainable. The objectives should be produced though a process that fosters the cooperation and commitment of both the public and private sectors.

The Secretary's Advisory Committee on National Health Promotion and Disease Prevention Objectives for 2020 is established to provide advice and assistance to the Secretary and HHS in the development of health promotion and disease prevention objectives to improve the health of Americans by 2020. The Committee shall advise the Secretary regarding national health promotion and disease prevention initiatives, in particular the work to develop goals and objectives to improve the health status and reduce health risks for Americans. The Committee shall be charged to: Provide to the Secretary advice and consultation to facilitate the process of developing and implementing national health promotion and disease prevention goals and objectives; and provide advice to the Secretary about the initiatives to occur during the initial implementation phase of the goals and objectives.

The Committee will convene to meet, at a minimum, one time per year. It is expected to begin meeting by December 2007. Pursuant to the requirements of the Federal Advisory Committee Act, the meetings will be open to the public except as determined otherwise by the Secretary or designee, in keeping with the guidelines under Government in the Sunshine Act, 5 U.S.C. 552b(c).

Individuals selected for appointment to the Committee shall be appointed to serve for the duration of the Committee. Unless renewed, the Committee will terminate two years from the date the Committee charter is filed. Committee members will be paid travel and per diem expenses in accordance with standard travel regulations, but will not receive compensation for their service.

Prospective members of the Secretary's Advisory Committee on National Health Promotion and Disease Prevention Objectives for 2020 should be knowledgeable of current scientific research in health promotion, disease prevention, and public health benchmarking and be respected experts in their fields. They should be familiar with the purpose and use of Healthy People or similar indicator sets and have demonstrated interest in the public's health and well-being through their work, research, and/or educational endeavors. Expertise is sought in specific specialty areas related to health promotion or disease prevention, including but not limited to: Health policy, state and local public health, business, outcomes research, health economics, health communications, special populations, biostatistics, international health, and epidemiology from a variety of public, private, foundation, and academic settings.

Nominations: HHS will consider nominations for Committee membership of individuals qualified to carry out the above-mentioned tasks. The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address, daytime telephone number, and electronic mail address, and the address, daytime telephone number, and electronic mail address of the individual being nominated; and (3) a current copy of the nominee's curriculum vitae. The names of Federal employees should not be nominated for consideration of appointment to this Committee.

Individuals can nominate themselves for consideration of appointment to the Committee. All nominations must include the required information. Incomplete nominations will not be processed for consideration.

Equal opportunity practices, in line with HHS policies, will be followed in all membership appointments to the Committee. To ensure that recommendations of the Committee take into account the needs of the diverse groups served by HHS, membership shall include, to the extent practicable, individuals with demonstrated ability to represent minorities, women, and persons with disabilities.

The Standards of Ethical Conduct for Employees of the Executive Branch are applicable to individuals who are appointed as members of Federal advisory committees. Individuals appointed to serve as members of Federal advisory committees are classified as special Government employees (SGEs). SGEs are Government employees for the purposes of the conflict of interest laws. Therefore, individuals appointed to serve as members of the Secretary's Advisory Committee on National Health Promotion and Disease Prevention Objectives for 2020 are subject to an ethics review. The ethics review is conducted to determine if the individual has any interest and/or activities in the private sector that may conflict with performance of their official duties as a member of the Committee. Individuals appointed to serve as members of the Committee will be required to disclose information regarding financial holdings, consultancies and research grants and/or contracts.

Dated: August 16, 2007.
Penelope Slade Royall,
Deputy Assistant Secretary for Health (Disease Prevention and Health Promotion), Department of Health and Human Services.

[FR Doc. E7-16471 Filed 8-20-07; 8:45 am]

BILLING CODE 4150-32-P